DEPARTMENT OF THE INTERIOR

Office of Natural Resources Revenue

[Docket No. ONRR-2011-0012; DS63610000 DR2PS0000.CH7000 156DO102R2]

Major Portion Prices and Due Date for Additional Royalty Payments on Indian Gas Production in Designated Areas Not Associated With an Index Zone

AGENCY: Office of the Secretary, Office of Natural Resources Revenue (ONRR), Interior.

ACTION: Notice.

SUMMARY: Final regulations for valuing gas produced from Indian leases, published August 10, 1999, require ONRR to determine major portion prices and notify industry by publishing the prices in the Federal Register. The regulations also require ONRR to publish a due date for industry to pay additional royalties based on the major portion prices. Consistent with these requirements, this notice provides major portion prices for the 12 months of calendar year 2013.

DATES: The due date to pay additional royalties based on the major portion prices is August 31, 2015.

FOR FURTHER INFORMATION CONTACT: Michael Curry, Manager, Denver B, Western Audit & Compliance, ONRR; telephone (303) 231-3741; fax number (303) 231-3473; email Michael.Curry@onrr.gov; or Rob Francoeur, Denver B, Team 2, Western Audit & Compliance, ONRR; telephone (303) 231-3723; fax (303) 231-3473; email Rob.Francoeur@onrr.gov. Mailing address: Office of Natural Resources Revenue, Western Audit & Compliance, Denver B, P.O. Box 25165, MS 62520B, Denver, Colorado 80225-0165.

SUPPLEMENTARY INFORMATION: On August 10, 1999, ONRR published a final rule titled “Amendments to Gas Valuation Regulations for Indian Leases” effective January 1, 2000 (64 FR 43506). The gas valuation regulations apply to all gas production from Indian (Tribal or allotted) oil and gas leases, except leases on the Osage Indian Reservation.

The regulations require ONRR to publish major portion prices for each designated area not associated with an index zone for each production month beginning January 2000, as well as the due date for additional royalty payments. See 30 CFR 1206.174(a)(4)(ii). If you owe additional royalties based on a published major portion price, you must submit to ONRR by the due date an amended Form ONRR-2014, Report of Sales and Royalty Remittance. If you do not pay the additional royalties by the due date, ONRR will bill you late payment interest under 30 CFR 1218.54. The interest will accrue from the due date until ONRR receives your payment and an amended Form ONRR-2014. The table below lists the major portion prices for all designated areas not associated with an index zone. The due date is the end of the month following 60 days after the publication date of this notice.

Gas Major Portion Prices ($/MMBtu) for Designated Areas not Associated With an Index Zone
ONRR-designated areas | Jan 2013 | Feb 2013 | Mar 2013 | Apr 2013
Blackfeet Reservation | 2.60 | 2.59 | 2.93 | 3.14
Fort Belknap | 4.73 | 4.91 | 4.85 | 5.00
Fort Berthold | 3.52 | 3.50 | 3.64 | 4.27
Fort Peck Reservation | 5.79 | 5.60 | 5.23 | 4.73
Navajo Allotted Leases in the Navajo Reservation | 3.32 | 3.26 | 3.33 | 3.95
Turtle Mountain Reservation | 4.28 | 4.27 | 4.17 | 4.39

ONRR-designated areas | May 2013 | Jun 2013 | Jul 2013 | Aug 2013
Blackfeet Reservation | 3.03 | 2.73 | 2.10 | 1.87
Fort Belknap | 5.00 | 4.83 | 4.84 | 4.77
Fort Berthold | 4.41 | 4.36 | 3.82 | 3.67
Fort Peck Reservation | 4.95 | 4.78 | 4.83 | 5.16
Navajo Allotted Leases in the Navajo Reservation | 3.91 | 3.90 | 3.53 | 3.42
Turtle Mountain Reservation | 4.41 | 4.23 | 4.23 | 4.78

ONRR-designated areas | Sep 2013 | Oct 2013 | Nov 2013 | Dec 2013
Blackfeet Reservation | 1.62 | 2.71 | 2.98 | 3.17
Fort Belknap | 4.78 | 4.81 | 4.87 | 5.01
Fort Berthold | 3.69 | 3.71 | 3.89 | 4.03
Fort Peck Reservation | 5.27 | 4.84 | 4.43 | 5.05
Navajo Allotted Leases in the Navajo Reservation | 3.52 | 3.48 | 3.56 | 3.95
Turtle Mountain Reservation | 4.78 | 4.67 | 5.31 | 6.08

For information on how to report additional royalties due to major portion prices, please refer to our Dear Payor letter dated December 1, 1999, on the ONRR Web site at http://www.onrr.gov/ReportPay/PDFDocs/991201.pdf.

Dated: June 4, 2015.
Gregory J. Gould,
Director, Office of Natural Resources Revenue.

[FR Doc. 2015-14193 Filed 6-11-15; 8:45 am]

BILLING CODE 4335-30-P